DEPARTMENT OF JUSTICE

Notice of Proposed Consent Decree Under the Comprehensive Environmental Response, Compensation, and Liability Act

Notice is hereby given that on October 4, 2010, a proposed Consent Decree in United States v. Quality Distribution, Inc., Civil Action No. 1:10-cv-05098-NLH-KMW, was lodged with the United States District Court for the District of New Jersey.

The proposed Consent Decree will settle the United States' claims on behalf of the U.S. Environmental Protection Agency (“EPA”) against Defendant Quality Distribution, Inc. (“QDI”), pursuant to Sections 106 and 107 of the Comprehensive Environmental Response, Compensation, and Liability Act (“CERCLA”), 42 U.S.C. 9606 and 9607, with respect to the Chemical Leaman Tank Lines, Inc. Superfund Site, in Bridgeport, Logan Township, Gloucester County, New Jersey (“Site”). The Site is on the National Priorities List established pursuant to Section 105(a) of CERCLA, 42 U.S.C. 9605(a). Pursuant to the Consent Decree, QDI will: pay $1,570,000 in reimbursement of the United States' past response costs for “Operable Unit 2” (“OU2”), a category of remedial action addressing sources of groundwater contamination at the Site; reimburse the United States for its future response costs related to OU2 and to “Operable Unit 3,” a category of remedial action addressing wetland contamination at the Site. In addition, QDI will finance and perform a remedy selected by EPA for OU2, estimated to cost $5,030,000.

The Department of Justice will receive comments relating to the proposed Consent Decree for a period of 30 days from the date of this publication. Comments on the Consent Decree should be addressed to the Assistant Attorney General, Environment and Natural Resources Division, and either e-mailed to pubcomment-ees.enrd@usdoj.gov or mailed to P.O. Box 7611, U.S. Department of Justice, Washington, DC 20044-7611, and should refer to United States v. Quality Distribution, Inc., Civil Action No. 1:10-cv-05098-NLH-KMW, D.J. Ref. 90-11-2-296/2.

The proposed Consent Decree may be examined at the Office of the United States Attorney, District of New Jersey, Camden Federal Building and U.S. Courthouse, 401 Market Street, 4th Floor, Camden, NJ 08101, and at EPA, Region 2, 290 Broadway, New York, New York 10007-1866. During the public comment period, the proposed Consent Decree may also be examined at the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. If requesting a copy by mail from the Consent Decree Library, please enclose a check to cover the 25 cents-per-page reproduction cost, in the amount of $70.00 for the Consent Decree with appendices or $12.00 without appendices, payable to the U.S. Treasury, or if requesting by e-mail or fax, forward a check in that amount to the Consent Decree Library at the above-referenced address.

Maureen Katz,
Assistant Chief, Environmental Enforcement Section, Environment and Natural Resources Division.

[FR Doc. 2010-25419 Filed 10-7-10; 8:45 am]

BILLING CODE 4410-15-P